DEPARTMENT OF ENERGY

Federal Energy Regulatory Commission

18 CFR Parts 2, 4, 35, 38 154, 250, 260, 270, 284, 341, 380, 385, and 388

[Docket No. RM23-11-000; Order No. 899]

Requests for Commission Records Available in the Public Reference Room

AGENCY: Federal Energy Regulatory Commission.

ACTION: Final rule.

SUMMARY: The Federal Energy Regulatory Commission (Commission) amends its regulations concerning requests for Commission records available in the Public Reference Room and from the Commission's website. Specifically, the Commission's regulations are revised to remove references to the physical Public Reference Room at the Commission's headquarters, as the Commission no longer has a physical Public Reference Room. The revised regulations will direct the public to access the records that were formerly available in the Commission's physical Public Reference Room, which was located at the Commission's headquarters, 888 First Street NE, Washington, DC 20426, through the Commission's website. Other Commission regulations are being amended to reflect this change to provide consistency by directing the public to the Commission's website for records and/or assistance in obtaining Commission records.

DATES: This rule is effective November 29, 2023. The incorporation by reference of certain material listed in the rule was approved by the Director of the Federal Register as of April 27, 2020, and August 2, 2021.

FOR FURTHER INFORMATION CONTACT: Mark Hershfield, Office of the General Counsel, 888 First Street NE, Washington, DC 20426, (202) 502-8597, mark.hershfield@ferc.gov.

Christopher Cook, Office of Secretary, 888 First Street NE, Washington, DC 20426, (202) 502-8102, christopher.cook@ferc.gov.

SUPPLEMENTARY INFORMATION:

I. Introduction

1. The Commission amends its regulations concerning requests for Commission records available in the Commission's physical Public Reference Room. Specifically, this final rule revises 18 CFR 388.106 to delete references to a physical Public Reference Room, as the Commission no longer has a physical Public Reference Room. The revised regulations will direct the public to obtain records through the Commission's website (www.ferc.gov), which includes eLibrary, the official repository of the Commission's records. Moreover, given that the Commission's headquarters will no longer have a physical Public Reference Room, the Commission is revising other regulations, where necessary, to direct the public to the Commission's website (www.ferc.gov) for access to Commission records previously available in the Public Reference Room.

II. Discussion

2. The purpose of this final rule is to ensure that members of the public can easily obtain Commission records online that were once available in physical form in the Public Reference Room located at the Commission's headquarters. This final rule is consistent with government-wide initiatives to transition from hardcopy records to electronic records. Notably, the FOIA Improvement Act of 2016 revised that part of the Freedom of Information Act (FOIA) regarding agency Public Reference Rooms, to provide that materials must be available “for public inspection in an electronic format.” ¹ Likewise, the National Archives Records Administration (NARA) ² and the Office of Management and Budget ³ have directed agencies to transition records to digital or electronic forms to the greatest extent possible. This final rule continues the Commission's efforts to comply with the government transition to electronic recordkeeping.

¹ See 5 U.S.C. 552 (2018) (as amended by the FOIA Improvement Act of 2016, Pub. L. 114-185 (2016)).

² See Federal Records Act Amendments of 2014, Public Law 113-187, as amended through Public Law 115-85, (enacted November 21, 2017) (codified at 44 U.S.C. 2904); see also NARA Bulletin 2020-01 (Sept. 30, 2020), https://www.archives.gov/records-mgmt/bulletins/2020/2020-01.

³ See OMB Memorandum M-19-21, Transition to Electronic Records, (June 28, 2019) https://www.archives.gov/files/records-mgmt/policy/m-19-21-transition-to-federal-records.pdf (providing that Federal agencies should “transition recordkeeping to a fully electronic environment that complies with all records management laws and regulations.”); OMB Memorandum M-23-7, Update to Transition to Electronic Records, (Dec. 23, 2022) https://www.whitehouse.gov/wp-content/uploads/2022/12/M_23_07-M-Memo-Electronic-Records_final.pdf (reinforcing the requirements established in M-19-21, reaffirming the underlying goal of the transition to electronic records, and updating the previous target dates described in M-19-21).

3. In that regard, the Commission's action here aligns with that of other agencies that have removed their physical Public Reference Rooms. For example, in December 2019, the Department of Education issued a final rule requiring records to be available for public inspection only in an electronic format.⁴ In the final rule, the Department of Education indicated that it was making this change “to reflect the emphasis in 5 U.S.C. 552(a)(2) on electronic inspection for agency records created on or after November 1, 1996.” ⁵ The Securities and Exchange Commission, similarly in August 2021, adopted a final rule amending its regulations to remove references to its Public Reference Room due to the lack of use of the facilities.⁶

⁴ Department of Education, Availability of Information to the Public Dep't of Education, 84 FR 67865 (Dec. 2019).

⁵ Id.

⁶ Securities and Exchange Commission, Freedom of Information Act Regulations, 86 FR 47561 (Aug. 26, 2021).

4. Moreover, in recent years, visitation and usage of the Commission's physical Public Reference Room has substantially decreased. Over the past 20 years, the public has increasingly sought Commission records electronically through the Commission's website as opposed to visiting the physical Public Reference Room in-person. For instance, there were only four requests for hard copy documents from walk-in visitors to the Public Reference Room in 2018, and in 2019, there were only seven requests.⁷ Given government-wide directives to digitize the government's paper records and the declining use of the physical Public Reference Room at the Commission's headquarters, physical access to public records does not align with Federal initiatives and trends throughout the government and the country, which call for transitioning to a paperless environment.

⁷ In addition, after the proclamation declaring a National Emergency concerning the Novel Coronavirus Disease (COVID-19), issued by the President on March 13, 2020, the Commission closed its headquarters building to outside visitors, which meant that the public no longer had physical access to the Public Reference Room. During the two and a half years that the Commission's headquarters building (including the physical Public Reference Room) was closed to the public, no one requested to visit the Public Reference Room and all requests for Commission documents were made either via email or by telephone.

5. The Commission will, however, ensure that the public will be able to access the same records electronically. As such, Commission staff intends to make hardcopy records electronically available, which, along with the majority of Commission submissions and issuances, will be accessible on the Commission's website. Commission staff will also continue enhancing online resources to make it convenient for the public to obtain official records electronically. The public will be able to access records and receive the same level of service from Commission staff when they seek assistance in obtaining Commission records electronically as they have in the past by visiting the Commission's website (www.ferc.gov), or during normal business hours, by emailing public.referenceroom@ferc.gov or calling (202) 502-8371, TTY (202) 502-8659.⁸

⁸ For members of the public seeking on-site access to electronic records at FERC Headquarters, staff from the Commission's Office of Public Participation (OPP) are available by appointment. OPP supports meaningful public engagement and participation in Commission proceedings and helps members of the public access publicly available information and navigate Commission processes. To schedule an appointment with OPP staff, the public is encouraged to contact OPP at OPP@ferc.gov or (202) 502-6595.

6. Finally, the Commission has also reviewed other regulations to ensure they are consistent with this rule by amending them to substitute references to the physical Public Reference Room with references to the Commission's website (www.ferc.gov).

III. Information Collection Statement

7. The Office of Management and Budget (OMB) approves certain information collection requirements imposed by agency rule.⁹ However, this final rule does not contain any additional information collection requirements. Therefore, compliance with OMB's regulations is not required.

⁹ 5 CFR 1320.12.

IV. Environmental Analysis

8. The Commission is required to prepare an Environmental Assessment or an Environmental Impact Statement for any action that may have a significant adverse effect on the human environment.¹⁰

¹⁰ Reguls. Implementing the Nat'l Env't Pol'y Act, Order No. 486, 52 FR 47897 (Dec. 17, 1987), FERC Stats. & Regs. ¶ 30,783 (1987) (cross-referenced at 41 FERC ¶ 61,284).

9. Part 380 of the Commission's regulations lists exemptions to the requirement to draft an Environmental Analysis or Environmental Impact Statement. Included is an exemption for procedural, ministerial, or internal administrative actions.¹¹ Accordingly, this rulemaking is exempt from the requirement to draft such documents under that provision.

¹¹ 18 CFR 380.4(a)(1).

V. Regulatory Flexibility Act

10. The Regulatory Flexibility Act of 1980 (RFA) ¹² generally requires a description and analysis of final rules that will have a significant economic impact on a substantial number of small entities. This final rule concerns a modification of current Commission regulations and practices. The Commission certifies that it will not have a significant economic impact upon participants in Commission proceedings. An analysis under the RFA is, therefore, not required.

¹² 5 U.S.C. 601-12.

VI. Document Availability and Incorporation by Reference

11. In addition to publishing the full text of this document in the Federal Register, the Commission provides all interested persons an opportunity to view and/or print the contents of this document via the internet through the Commission's Home Page (https://www.ferc.gov).

12. From the Commission's Home Page on the internet, this information is available on eLibrary. The full text of this document is available on eLibrary in PDF and Microsoft Word format for viewing, printing, and/or downloading. To access this document in eLibrary, type the docket number excluding the last three digits of this document in the docket number field.

13. User assistance is available for eLibrary and the Commission's website during normal business hours from FERC Online Support at (202) 502-6652 (toll free at 1-866-208-3676) or email at ferconlinesupport@ferc.gov or public.referenceroom@ferc.gov.

14. NAESB WEQ Business Practice Standards; Standards and Models are referenced in the amendatory text of this document but were previously approved for § 38.1.

VII. Effective Date

15. The Commission is issuing this rule as a final rule without a period for public comment. Under 5 U.S.C. 553(b)(3)(A), notice-and-comment rulemaking procedures are unnecessary for “rules of agency organization, procedure, or practice.” This rule is, therefore, exempt from notice-and-comment rulemaking procedures, because it concerns the Commission's procedures and practices. In particular, this rule changes the agency's practice related to the location of the public reference room. The rule will not significantly affect regulated entities or the general public.

16. This rule is effective November 29, 2023.

List of Subjects

18 CFR Part 2

Administrative practice and procedure, Electric utilities, Natural gas, Pipelines, Reporting and recordkeeping requirements.

18 CFR Part 4

Administrative practice and procedure, Electric power, Reporting and recordkeeping requirements.

18 CFR Part 35

Electric power rates, Electric utilities, Reporting and recordkeeping requirements.

18 CFR Part 38

Conflicts of interest, Electric power plants, Electric utilities, Incorporation by reference, Reporting and recordkeeping requirements.

18 CFR Part 154

Natural gas, Pipelines, Reporting and recordkeeping requirements.

18 CFR Part 250

Natural gas, Reporting and recordkeeping requirements.

18 CFR Part 270

Natural gas, Price controls, Reporting and recordkeeping requirements.

18 CFR Part 284

Continental shelf, Incorporation by reference, Natural gas, Reporting and recordkeeping requirements.

18 CFR Part 292

Electric power plants, Electric utilities, Natural gas, Reporting and recordkeeping requirements.

18 CFR Part 341

Pipelines, Reporting and recordkeeping requirements.

18 CFR Part 357

Pipelines, Reporting and recordkeeping requirements.

18 CFR Part 380

Environmental impact statements, Reporting and recordkeeping requirements

18 CFR Part 385

Administrative practice and procedure, Electric power, Penalties, Pipelines, Reporting and recordkeeping requirements.

18 CFR Part 388

Confidential business information, Freedom of information.

By the Commission.
Issued: October 19, 2023.
Kimberly D. Bose,
Secretary.

In consideration of the foregoing, the Commission amends parts 2, 4, 35, 38 154, 250, 260, 270 284, 341, 380, 385, and 388, chapter I, title 18, Code of Federal Regulations, as follows:

PART 2—GENERAL POLICY AND INTERPRETATIONS

1. The authority citation for part 2 continues to read as follows:

Authority: 5 U.S.C. 601; 15 U.S.C. 717-717z, 3301-3432; 16 U.S.C. 792-828c, 2601-2645; 42 U.S.C. 4321-4370h, 7101-7352.

2. In § 2.27, paragraph (f) is revised to read as follows:

§ 2.27 Availability of North American Energy Standards Board (NAESB) Smart Grid Standards as non-mandatory guidance.

* * * * *

(f) Copies of these standards may be obtained from the North American Energy Standards Board, 801 Travis Street, Suite 1675, Houston, TX 77002, Tel: (713) 356-0060. NAESB's website is at https://www.naesb.org/. Copies may also be obtained from the Federal Energy Regulatory Commission's website, https://www.ferc.gov.

PART 4—LICENSES, PERMITS, EXEMPTIONS, AND DETERMINATION OF PROJECT COSTS

3. The authority citation for part 4 continues to read as follows:

Authority: 16 U.S.C. 791a-825r; 42 U.S.C. 7101-7352.

4. In § 4.60, paragraph (b) is revised to read as follows:

§ 4.60 Applicability and notice to agencies.

* * * * *

(b) Notice to agencies. The Commission will supply interested Federal, state, and local agencies with notice of any application for license for a water power project 10 MW or less and request comment on the application. Copies of the application will be available for inspection through the Commission's website, https://www.ferc.gov. The applicant shall also furnish copies of the filed application to any Federal, state, or local agency that so requests.

* * * * *

PART 35—FILING OF RATE SCHEDULES AND TARIFFS

5. The authority citation for part 35 continues to read as follows:

Authority: 16 U.S.C. 791a-825r, 2601-2645; 31 U.S.C. 9701; 42 U.S.C. 7101-7352.

6. In § 35.7, paragraph (c) is revised to read as follows:

§ 35.7 Electronic filing of tariffs and related materials.

* * * * *

(c) Format requirements for electronic filing. The requirements and formats for electronic filing are listed in instructions for electronic filing and for each form. These formats are available through the Commission's website, https://www.ferc.gov.

* * * * *

PART 38—STANDARDS FOR PUBLIC UTILITY BUSINESS OPERATIONS AND COMMUNICATIONS

7. The authority citation for part 38 continues to read as follows:

Authority: 16 U.S.C. 791-825r, 2601-2645; 31 U.S.C. 9701; 42 U.S.C. 7101-7352.

8. Revise § 38.1 to read as follows:

§ 38.1 Incorporation by reference of North American Energy Standards Board Wholesale Electric Quadrant standards.

(a) Any public utility that owns, operates, or controls facilities used for the transmission of electric energy in interstate commerce or for the sale of electric energy at wholesale in interstate commerce and any non-public utility that seeks voluntary compliance with jurisdictional transmission tariff reciprocity conditions must comply with the business practice and electronic communication standards and models promulgated by the North American Energy Standards Board (NAESB) Wholesale Electric Quadrant (WEQ) that are incorporated by reference in paragraph (b) of this section. The requirements and formats for electronic filing are listed in instructions for electronic filing and for each form. These formats are available through the Commission's website, https://www.ferc.gov.

(b) The material listed in this paragraph (b) is incorporated by reference into this section with the approval of the Director of the Federal Register under 5 U.S.C. 552(a) and 1 CFR part 51. All approved material is available for inspection at the Federal Energy Regulatory Commission (the Commission) and at the National Archives and Records Administration (NARA). Contact the Commission at: https://www.ferc.gov, email at public.referenceroom@ferc.gov or via phone call at (202) 502-8371. For information on the availability of this material at NARA, visit www.archives.gov/federal-register/cfr/ibr-locations or email fr.inspection@nara.gov. The material may be obtained from the North American Energy Standards Board, 801 Travis Street, Suite 1675, Houston, TX 77002, Phone: (713) 356-0060; https://www.naesb.org/.

(1) WEQ-000, Abbreviations, Acronyms, and Definition of Terms (WEQ Version 003.1, September 30, 2015) (including only the definitions of Interconnection Time Monitor, Time Error, and Time Error Correction);

(2) WEQ-000, Abbreviations, Acronyms, and Definition of Terms (WEQ Version 003.3, March 30, 2020);

(3) WEQ-001, Open Access Same-Time Information Systems (OASIS), (WEQ Version 003.3, March 30, 2020);

(4) WEQ-002, Open Access Same-Time Information Systems (OASIS) Business Practice Standards and Communication Protocols (S&CP), (WEQ Version 003.3, March 30, 2020);

(5) WEQ-003, Open Access Same-Time Information Systems (OASIS) Data Dictionary, (WEQ Version 003.3, March 30, 2020);

(6) WEQ-004, Coordinate Interchange (WEQ Version 003.3, March 30, 2020);

(7) WEQ-005, Area Control Error (ACE) Equation Special Cases (WEQ Version 003.3, March 30, 2020);

(8) WEQ-006, Manual Time Error Correction (WEQ Version 003.1, Sept. 30, 2015);

(9) WEQ-007, Inadvertent Interchange Payback (WEQ Version 003.3, March 30, 2020);

(10) WEQ-008, Transmission Loading Relief (TLR)—Eastern Interconnection (WEQ Version 003.3, March 30, 2020);

(11) WEQ-011, Gas/Electric Coordination (WEQ Version 003.3, March 30, 2020);

(12) WEQ-012, Public Key Infrastructure (PKI) (WEQ Version 003.3, March 30, 2020);

(13) WEQ-013, Open Access Same-Time Information Systems (OASIS) Implementation Guide, (WEQ Version 003.3, March 30, 2020);

(14) WEQ-015, Measurement and Verification of Wholesale Electricity Demand Response (WEQ Version 003.3, March 30, 2020);

(15) WEQ-021, Measurement and Verification of Energy Efficiency Products (WEQ Version 003.3, March 30, 2020);

(16) WEQ-022, Electric Industry Registry (WEQ Version 003.3, March 30, 2020); and

(17) WEQ-023, Modeling (WEQ Version 003.3, March 30, 2020).

PART 154—RATE SCHEDULES AND TARIFFS

9. The authority citation for part 154 continues to read as follows:

Authority: 15 U.S.C. 717-717w; 31 U.S.C. 9701; 42 U.S.C. 7102-7352.

10. In § 154.4, paragraph (c) is revised to read as follows:

§ 154.4 Electronic filing of tariffs and related materials.

* * * * *

(c) Format requirements for electronic filing. The requirements and formats for electronic filing are listed in instructions for electronic filing and for each form. These formats are available through the Commission's website, https://www.ferc.gov.

* * * * *

PART 250—FORMS

11. The authority citation for part 250 continues to read as follows:

Authority: 15 U.S.C. 717-717w, 3301-3432; 42 U.S.C. 7101-7352; 28 U.S.C. 2461 note.

12. In § 250.16, paragraphs (c)(3) and (d)(2) are revised to read as follows:

§ 250.16 Format of compliance plan for transportation services and affiliate transactions.

* * * * *

(c) * * *

(3) The log of affiliate and non-affiliate information must be provided to the Commission upon request and must be made available to the public under 18 CFR part 385, subpart D. When requested by the Commission, the information must be provided, within a reasonable time, according to the specifications and format contained in Form No. 592, which can be obtained on the Commission's website, https://www.ferc.gov.

(d) * * *

(2) The discount information must be made available to the Commission upon request and to the public under 18 CFR part 385, subpart D. When requested by the Commission, the information must be provided, within a reasonable time, according to the specifications and format contained in Form No. 592, which can be obtained on the Commission's website, https://www.ferc.gov.

* * * * *

PART 260—STATEMENTS AND REPORTS (SCHEDULES)

13. The authority citation for part 260 continues to read as follows:

Authority: 15 U.S.C. 717-717w, 3301-3432; 42 U.S.C. 7101-7352.

14. In § 260.1, paragraph (b)(4) is revised to read as follows:

§ 260.1 FERC Form No. 2, Annual report for Major natural gas companies.

* * * * *

(b) * * *

(4) The form must be filed in electronic format only, as indicated in the general instructions set out in that form. The format for the electronic filing is available through the Commission's website, https://www.ferc.gov. One copy of the report must be retained by the respondent in its files.

15. In § 260.2, paragraph (b)(4) is revised to read as follows:

§ 260.2 FERC Form No. 2-A, Annual report for Nonmajor natural gas companies.

* * * * *

(b) * * *

(4) The form must be filed in electronic format only, as indicated in the General Instructions set out in that form. The format for the electronic filing is available through the Commission's website, https://www.ferc.gov. One copy of the report must be retained by the respondent in its files.

PART 270—DETERMINATION PROCEDURES

16. The authority citation for part 270 continues to read as follows:

Authority: 15 U.S.C. 717-717w, 3301 et. seq.; 42 U.S.C. 7101 et seq.; E.O. 12009, 3 CFR, 1978 Comp., p. 142.

17. In § 270.501, paragraph (a) is revised to read as follows:

§ 270.501 Publication of notice from jurisdictional agency.

* * * * *

(a) Upon receipt of a notice of determination by a jurisdictional agency under § 270.204, the Commission will send an acknowledgment to the applicant and make the notice available through the Commission's website, https://www.ferc.gov.

* * * * *

18. In § 270.502, paragraph (e) is revised to read as follows:

§ 270.502 Commission review of final determinations.

* * * * *

(e) Public notice. The Commission will publish notice of the preliminary finding in the Federal Register and will post the notice on the Commission's website, https://www.ferc.gov. The notice will set forth the reasons for the preliminary finding.

* * * * *

PART 284—CERTAIN SALES AND TRANSPORTATION OF NATURAL GAS UNDER THE NATURAL GAS POLICY ACT OF 1978 AND RELATED AUTHORITIES

19. The authority citation for part 284 continues to read as follows:

Authority: 15 U.S.C. 717-717z, 3301-3432; 42 U.S.C. 7101-7352; 43 U.S.C. 1331-1356.

20. In § 284.12, paragraph (a)(2) is revised to read as follows:

§ 284.12 Standards for pipeline business operations and communications.

(a) * * *

(2) The material listed in this paragraph (a)(2) is incorporated by reference into this section with the approval of the Director of the Federal Register under 5 U.S.C. 552(a) and 1 CFR part 51. All approved material is available for inspection at the Federal Energy Regulatory Commission (the Commission) and at the National Archives and Records Administration (NARA). Contact the Commission at: https://www.ferc.gov, email public.referenceroom@ferc.gov, or via phone call at 202-502-8371. For information on the availability of this material at NARA, visit www.archives.gov/federal-register/cfr/ibr-locations or email fr.inspection@nara.gov. The material may be obtained from the North American Energy Standards Board, 801 Travis Street, Suite 1675, Houston, TX 77002, Phone: (713) 356-0060; https://www.naesb.org/.

* * * * *

21. In § 284.13, paragraph (c)(5) is revised to read as follows:

§ 284.13 Reporting requirements for interstate pipelines.

* * * * *

(c) * * *

(5) The requirements for the electronic index are available through the Commission's website, https://www.ferc.gov.

* * * * *

22. In § 284.123, paragraph (f)(3) is revised to read as follows:

§ 284.123 Rates and charges.

* * * * *

(f) * * *

(3) Format requirements for electronic filing. The requirements and formats for electronic filing are listed in instructions for electronic filing and for each form. These formats are available through the Commission's website, https://www.ferc.gov.

* * * * *

23. In § 284.221, paragraph (b)(1) is revised to read as follows:

§ 284.221 General rule; transportation by interstate pipelines on behalf of others.

* * * * *

(b) * * *

(1) An application for a blanket certificate under this section must be filed electronically. The format for the electronic application filing available through the Commission's website, https://www.ferc.gov, and must include:

(i) The name of the interstate pipeline; and

(ii) A statement by the interstate pipeline that it will comply with the conditions in paragraph (c) of this section.

* * * * *

PART 292—REGULATIONS UNDER SECTIONS 201 AND 210 OF THE PUBLIC UTILITY REGULATORY POLICIES ACT OF 1978 WITH REGARD TO SMALL POWER PRODUCTION AND COGENERATION

24. The authority citation for part 292 continues to read as follows:

Authority: 16 U.S.C. 791a-825r, 2601-2645; 31 U.S.C. 9701; 42 U.S.C. 7101-7352.

25. In § 292.210, paragraph (e)(1) is revised to read as follows:

§ 292.210 Petition alleging commitment of substantial monetary resources before October 16, 1986.

* * * * *

(e) * * *

(1) The Commission will issue a notice of the petition filed under this section and publish the notice in the Federal Register. The petition will be available to inspect or to download on the Commission's website, https://www.ferc.gov.

* * * * *

26. In § 292.211, paragraph (h)(1) is revised to read as follows:

§ 292.211 Petition for initial determination on whether a project has a substantial adverse effect on the environment (AEE petition).

* * * * *

(h) * * *

(1) The Commission will issue notice of the mitigative measures filed by an applicant under paragraph (g)(2) of this section and will publish the notice in the Federal Register. The mitigative measures will be on file and available to inspect or to download on the Commission's website, https://www.ferc.gov.

* * * * *

PART 341—OIL PIPELINE TARIFFS: OIL PIPELINE COMPANIES SUBJECT TO SECTION 6 OF THE INTERSTATE COMMERCE ACT

27. The authority citation for part 341 continues to read as follows:

Authority: 42 U.S.C. 7101-7352; 49 U.S.C. 1-27.

28. In § 341.1, paragraph (c) is revised to read as follows:

§ 341.1 Electronic filing of tariffs and related materials.

* * * * *

(c) Format requirements for electronic filing. The requirements and formats for electronic filing are listed in instructions for electronic filing and for each form. These formats are available through the Commission's website, https://www.ferc.gov.

* * * * *

PART 357—ANNUAL SPECIAL OR PERIODIC REPORTS: CARRIERS SUBJECT TO PART I OF THE INTERSTATE COMMERCE ACT

29. The authority citation for part 357 continues to read as follows:

Authority: 42 U.S.C. 7101-7352; 49 U.S.C. 60502; 49 App. U.S.C. 1-85 (1988).

30. In § 357.3, paragraph (c) is revised to read as follows:

§ 357.3 FERC Form No. 73, Oil Pipeline Data for Depreciation Analysis.

* * * * *

(c) What to submit. The format and data which must be submitted are prescribed in FERC Form No. 73, Oil Pipeline Data for Depreciation Analysis, available for review on the Commission's website https://www.ferc.gov.

PART 380—REGULATIONS IMPLEMENTING THE NATIONAL ENVIRONMENTAL POLICY ACT

31. The authority citation for part 380 continues to read as follows:

Authority: 42 U.S.C. 4321-4370h, 7101-7352; E.O. 12009, 3 CFR, 1978 Comp., p. 142.

32. In § 380.9, paragraph (b) is revised to read as follows:

§ 380.9 Public availability of NEPA documents and public notice of NEPA related hearings and public meetings.

* * * * *

(b) The Commission will make environmental impact statements, environmental assessments, the comments received, and any underlaying documents available to the public pursuant to the provisions of the Freedom of Information Act (5 U.S.C. 552 (1982)). The exclusion in the Freedom of Information Act for interagency memoranda is not applicable where such memoranda transmit comments of Federal agencies on the environmental impact of the proposed action. Such materials will be made available to the public through the Commission's website, https://www.ferc.gov, at a fee and in the manner described in part 388 of this chapter. A copy of an environmental impact statement or environmental assessment for hydroelectric projects may also be made available for inspection at the Commission's regional office for the region where the proposed action is located.

PART 385—RULES OF PRACTICE AND PROCEDURE

33. The authority citation for part 385 continues to read as follows:

Authority: 5 U.S.C. 551-557; 15 U.S.C. 717-717w, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988); 28 U.S.C. 2461 note (1990); 28 U.S.C. 2461 note (2015).

34. In § 385.203, paragraph (d) is revised to read as follows:

§ 385.203 Content of pleadings and tariff or rate filings (Rule 203).

* * * * *

(d) Form of notice. If a pleading or tariff or rate filing must include a form of notice suitable for publication in the Federal Register, the company shall submit the draft notice in accordance with the form of notice specifications prescribed by the Secretary and posted on the Commission's website under Filing Procedures at https://www.ferc.gov.

35. In § 385.2011, paragraph (c)(4) is revised to read as follows:

§ 385.2011 Procedures for filing on electronic media (Rule 2011).

* * * * *

(c) * * *

(4) The formats for the electronic filing and the paper copy are available through the Commission's website, https://www.ferc.gov.

* * * * *

PART 388—INFORMATION AND REQUESTS

36. The authority citation for part 388 continues to read as follows:

Authority: 5 U.S.C. 301-305, 551, 552 (as amended), 553-557; 42 U.S.C. 7101-7352; 16 U.S.C. 824(o l).

37. In § 388.105, paragraph (a) is revised to read as follows:

§ 388.105 Procedures for press, television, radio, and photographic coverage.

(a) The Commission issues news releases on major applications, decisions, opinions, orders, rulemakings, new publications, major personnel changes, and other matters of general public interest. Releases are issued by and available to the media from the Office of External Affairs. Releases may be obtained through the Commission's website, https://www.ferc.gov.

* * * * *

38. In § 388.106, the section heading, paragraph (a), and paragraph (b) introductory text are revised to read as follows:

§ 388.106 Requests for Commission records available from the Commission's website, https://www.ferc.gov.

(a) Publicly available documents may be obtained electronically from the Commission's website, https://www.ferc.gov, or by requesting them from the public.referenceroom@ferc.gov by reasonably describing the records sought. Additional information on charges and services is available on the website.

(b) The public records of the Commission that are available for inspection and copying upon request via the Commission's website, include:

* * * * *

39. In § 388.108, the section heading and paragraphs (a)(1) introductory text and (b)(1)(i) are revised to read as follows:

§ 388.108 Requests for Commission records not available from the Commission's website, https://www.ferc.gov.

(a) * * *

(1) Except as provided in paragraph (a)(2) of this section, a person may request access to Commission records, including records maintained in electronic format, that are not available through the Commission's website, https://www.ferc.gov, by using the following procedures:

* * * * *

(b) * * *

(1) * * *

(i) Track One—records that are readily identifiable and were previously cleared for release (including those subject to multiple requests and placed on https://www.ferc.gov);

* * * * *

40. In § 388.109, paragraph (a) and paragraph (b) introductory text are revised to read as follows:

§ 388.109 Fees for record requests.

(a) Fees for records available through the Commission's website. (1) The fee for finding and duplicating records available from the Commission's website, https://www.ferc.gov, will vary depending on the size and complexity of the request. A person can obtain a copy of the schedule of fees from the Commission's website, https://www.ferc.gov. In addition, copies of data extracted from the Commission's files through electronic media are available on a reimbursable basis, upon written request to the Commission.

(2) Stenographic reports of Commission hearings are made by a private contractor. Interested persons may obtain copies of public hearing transcripts from the contractor at prices set in the contract, or through the search and duplication service noted above. Copies of the contract are available for public inspection on the Commission's website, https://www.ferc.gov.

(b) Fees for records not available through the Commission's website (FOIA or CEII requests). The cost of duplication of records not available from the Commission's website, https://www.ferc.gov, will depend on the number of documents requested, the time necessary to locate the documents requested, and the category of the persons requesting the records. The procedures for appeal of denial of requests for fee waiver or reduction are set forth in § 388.110.

* * * * *

41. In § 388.110, the section heading is revised to read as follows:

§ 388.110 Procedure for appeal of denial of requests for Commission records not publicly available, denial of requests for fee waiver or reduction, and denial of requests for expedited processing.

* * * * *

[FR Doc. 2023-23587 Filed 10-27-23; 8:45 am]

BILLING CODE 6717-01-P